ENVIRONMENTAL PROTECTION AGENCY

[FRL-7829-3]

Science Advisory Board Staff Office; Notification of an Upcoming Meeting of the Advisory Council on Clean Air Compliance Analysis

AGENCY: Environmental Protection Agency (EPA).

ACTION: Notice.

SUMMARY: The EPA Science Advisory Board (SAB) Staff Office announces a public teleconference of the Advisory Council on Clean Air Compliance Analysis (Council) to finalize a draft advisory letter prepared by its Health Effects Subcommittee (HES) on the cessation lag issue, i.e., the time lag between reductions in air pollution and reductions in human health effects.

DATES: The public teleconference of the Council will be held on November 1, 2004, from 1 p.m. to 2 p.m. (eastern time).

FOR FURTHER INFORMATION CONTACT: Members of the public who wish to obtain the call-in number and access code or who wish to obtain further information regarding the Council and its subcommittees may contact Dr. Holly Stallworth, Designated Federal Officer, at telephone/voice mail: (202) 343-9867 or via e-mail at: stallworth.holly@epa.gov. General information about the SAB may be found on the SAB Web site at: http://www.epa.gov/sab.

SUPPLEMENTARY INFORMATION: Background: The Council and its subcommittees provide EPA's Office of Air and Radiation (OAR) with advice on the data, methods and analyses conducted by OAR for implementing its programs under the Clean Air Act. Additional background on the Council and its advice was provided in 68 FR 7531-7534.

In its March 2004 Advisory report, posted at http://www.epa.gov/sab/pdf/council_adv_04002.pdf, the Council HES provided advice on the health science aspects of EPA's analytic blueprint for its second prospective analysis. EPA's OAR and Office of Policy, Economics and Innovation recently requested that the Council clarify its particular advice in this March 2004 report pertaining to cessation lags, i.e., the time delay between reductions in air pollution and reductions in adverse health effects. On September 21, 2004, the HES addressed the Agency's questions in a public teleconference, noticed in 69 FR 54783-54784. The agenda and background documents related to the September 21, 2004, teleconference on the cessation lag issue are posted at: http://www.epa.gov/sab/pdf/council_hes_background_info_092104.pdf. Subsequent to this teleconference, the HES drafted an advisory letter summarizing its conclusions. The chartered Council will finalize this draft advisory letter on the November 1, 2004, teleconference.

Availability of Meeting Materials: The HES draft advisory letter and a meeting agenda will be posted on the SAB Web site at: http://www.epa.gov/sab prior to the teleconference.

Procedures for Providing Public Comments: It is the policy of the EPA SAB to accept written public comments of any length, and to accommodate oral public comments whenever possible. The SAB Staff Office expects that public statements presented at the Council meeting will not be repetitive of previously submitted oral or written statements. Oral Comments: In general, each individual or group requesting an oral presentation at a face-to-face meeting will be limited to a total time of ten minutes (unless otherwise indicated). Interested parties should contact the DFO in writing (e-mail, fax or mail—see contact information above) by close of business October 25, 2004, in order to be placed on the public speaker list for the meeting. Written Comments: Although the SAB Staff Office accepts written comments until the date of the meeting (unless otherwise stated), written comments should be received in the SAB Staff Office at least seven business days prior to the meeting date so that the comments may be made available to the panel for their consideration. Comments should be supplied to the DFO at the address/contact information noted above in the following formats: one hard copy with original signature, and one electronic copy via e-mail (acceptable file format: Adobe Acrobat, WordPerfect, Word, or Rich Text files in IBM-PC/Windows 98/2000/XP format).

Dated: October 15, 2004.
Vanessa T. Vu,
Director, EPA Science Advisory Board Staff Office.

[FR Doc. 04-23583 Filed 10-20-04; 8:45 am]

BILLING CODE 6560-50-P